DEPARTMENT OF HEALTH AND HUMAN SERVICES

Centers for Disease Control and Prevention

[30Day-08-0406]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

State and Local Area Integrated Telephone Survey (SLAITS), (OMB No. 0920-0406)—Extension—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States. The State and Local Area Integrated Telephone Survey (SLAITS) mechanism has been conducted since 1997. NCHS requests 3 years of OMB clearance to continue using this integrated and coordinated survey system. It is specifically designed to collect health and well-being data at the national, state, and local levels (in accordance with the 1995 initiative to increase the integration of surveys within DHHS).

Using the large sampling frame from the ongoing National Immunization Survey (NIS) and Computer Assisted Telephone Interviewing (CATI), SLAITS has quickly collected and produced household and person-level data to monitor many health-related areas. The questionnaire content is drawn from existing surveys within DHHS and other Federal agencies. Depending on the needs of the project sponsor, a new instrument may need to be developed. Examples of topical areas are child and family health and well-being; early childhood health; children with special health care needs (CSHCN); influenza vaccination of children; asthma prevalence and treatment; access to care; program participation; the health and well-being of adopted children; post-adoption support use; knowledge of Medicaid and the State Children's Health Insurance Program (SCHIP); and changes in health care coverage at the national and state levels.

Since its inception the SLAITS mechanism has been used by federal, state, and local government researchers and policymakers; researchers at universities and non-profit groups; and advocates to evaluate content and programmatic health issues. For example, the CSHCN and Children's Health modules have been used by Federal and state Maternal and Child Health Bureau Directors to evaluate programs and service needs. The module on Medicaid and SCHIP was prominently featured in a Congressional report on children's insurance.

There is no cost to respondents other than their time to participate. The total estimated annualized burden hours are 55,190.

Estimated Annualized Burden
Respondents | Number of respondents | Number of responses per respondent | Average burden per response (in hours)
Developmental work—Household screener | 14,535 | 1 | 3/60
Developmental work—Household screener & survey | 6,151 | 1 | 28/60
Main implementation—Household screener | 515,027 | 1 | 3/60
Main implementation—Household screener & survey | 59,635 | 1 | 26/60

Dated: October 17, 2007.
Maryam I. Daneshvar,
Acting Reports Clearance Officer Centers for Disease Control and Prevention.

[FR Doc. E7-21208 Filed 10-26-07; 8:45 am]

BILLING CODE 4163-18-P